DEPARTMENT OF STATE

[Public Notice 5099]

Announcement of Meetings of the International Telecommunication Advisory Committee

SUMMARY: The International Telecommunication Advisory Committee announces a meeting of U.S. Study Group A on July 28, 2005, which will be held to prepare positions for the next meeting of ITU-T Study Group 3, and three meetings to prepare for ITU Development Sector Study Group Meetings 1 and 2. Members of the public will be admitted to the extent that seating is available, and may join in the discussions, subject to the instructions of the Chair.

The International Telecommunication Advisory Committee (ITAC) will meet on Thursday, July 28, 2005, 2:00-4:00pm, to prepare U.S. and company contributions for the next meeting of ITU-accounting principles, which will take place September 12-16, 2005. The U.S. Study Group A meeting will be held at the AT&T Innovation Center, 1133 21st St, Suite 210, Washington, DC. A conference bridge will be available to those outside the Washington Metro area. Directions to the meeting and conference bridge information may be obtained from minardje@state.gov.

The International Telecommunication Advisory Committee (ITAC) will meet on Tuesday, July 26, 2005, and on August 2 and August 30 to prepare for the ITU-D Study Group 1 and 2 meetings, which will take place in September in Geneva. All preparatory meetings will take place from 10 a.m. to 12 p.m. in Room 2533A of the State Department. Entrance to the Department of State is controlled; those intending to attend a meeting should send their clearance data by fax to (202) 647-7407 or e-mail to mccorklend@state.gov not later than 24 hours before the meeting. Please include the name of the meeting, your name, social security number, date of birth and organizational affiliation. One of the following valid photo identifications will be required for admittance: U.S. driver's license with your photo, U.S. passport, or U.S. Government identification. Directions to the meeting may be obtained by calling 202 647-2592.

Dated: June 30, 2005.
Anne Jillson,
Foreign Affairs Officer, International Communications & Information Policy, Department of State.

[FR Doc. 05-13482 Filed 7-7-05; 8:45 am]

BILLING CODE 4710-07-P